DEPARTMENT OF COMMERCE

National Oceanic and Atmospheric Administration

[I.D. 091605C]

Pacific Fishery Management Council; Joint Salmon Technical Team and Scientific and Statistical Committee Salmon Subcommittee Work Session to Review Proposed Salmon Methodology Changes

AGENCY: National Marine Fisheries Service (NMFS), National Oceanic and Atmospheric Administration (NOAA), Commerce.

ACTION: Notice of public meetings.

SUMMARY: The Pacific Fishery Management Council's (Council) Salmon Technical Team (STT) and Salmon Subcommittee (SSC) will hold a joint work session, which is open to the public.

DATES: The work session will be held Wednesday, October 12, 2005, from 9 a.m. to 4 p.m..

ADDRESSES: The work session will be held at the Sheraton Portland Airport Hotel, Columbian Room, 8235 NE Airport Way, Portland, OR 97220. Telephone: 503-281-2500

Council address: Pacific Fishery Management Council, 7700 NE Ambassador Place, Suite 200, Portland, Oregon, 97220-1384, 503-820-2280.

FOR FURTHER INFORMATION CONTACT: Mr. Chuck Tracy, Salmon Management Staff Officer, Pacific Fishery Management Council, (503) 820-2280.

SUPPLEMENTARY INFORMATION: The purpose of the work session is to brief the STT and SSC on proposed changes to methods used to manage ocean salmon fisheries, and to review documentation of the Fishery Regulation Assessment Model (FRAM).

Although nonemergency issues not contained in the meeting agendas may come before the STT and the SSC subcommittee for discussion, those issues may not be the subject of formal action during these meetings. Action will be restricted to those issues specifically listed in this notice and any issues arising after publication of this notice that require emergency action under Section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at 503-820-2280 at least five days prior to the meeting date.

Dated: September 16, 2005.
Emily Menashes,
Acting Director, Office of Sustainable Fisheries, National Marine Fisheries Service.

[FR Doc. E5-5148 Filed 9-21-05; 8:45 am]

BILLING CODE 3510-22-S